DEPARTMENT OF AGRICULTURE

Forest Service

Southwest Idaho Resource Advisory Committee

AGENCY: Forest Service, USDA.

ACTION: Notice of meeting.

SUMMARY: The Southwest Idaho Resource Advisory Committee (RAC) will meet in Emmett, Idaho. The committee is authorized under the Secure Rural Schools and Community Self-Determination Act (the Act) and operates in compliance with the Federal Advisory Committee Act. The purpose of the committee is to improve collaborative relationships and to provide advice and recommendations to the Forest Service concerning projects and funding consistent with Title II of the Act.

DATES: The meeting will be held July 21, 2015, from 9:00 a.m. to 5:00 p.m.

All RAC meetings are subject to cancellation. For status of meeting prior to attendance, please contact the person listed under FOR FURTHER INFORMATION CONTACT.

ADDRESSES: The meeting will be held at the USDA Service Center, 1805 Highway 16, Emmett, Idaho.

Written comments may be submitted as described under Supplementary Information. All comments, including names and addresses when provided, are placed in the record and are available for public inspection and copying. The public may inspect comments received at Emmett Ranger District. Please call ahead to facilitate entry into the building.

FOR FURTHER INFORMATION CONTACT: Richard Newton, Designated Federal Officer, by phone at 208-365-7001 or via email at renewton@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is:

1. Outline meeting objectives,

2. Selection of a new Chairman,

3. Discussion of administrative needs, and

4. Review projects submitted for Title II funding.

The meeting is open to the public. This is the first of two meetings of the RAC to determine which projects will be considered for funding. This first meeting will function as an initial sort of projects with possible approval of projects; the second meeting will allow for additional public input and presentations needed for project clarification. Anyone who would like to bring related matters to the attention of the committee may file written statements with the committee staff before or after the meeting. Written comments and requests for time for oral comments must be sent to Richard Newton, RAC Designated Federal Officer, Emmett Ranger District, 1805 Highway 16 #5, Emmett, ID; by email to renewton@fs.fed.us, or via facsimile to 208-374-5623.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: June 25, 2015.
Cecelia R. Seesholtz,
Forest Supervisor.

[FR Doc. 2015-16591 Filed 7-6-15; 8:45 am]

BILLING CODE 3411-15-P